DEPARTMENT OF DEFENSE

Department of the Army

Notice of Availability of the Final Environmental Impact Statement (FEIS) for the Implementation of Fort Carson's Grow the Army (GTA) Stationing Decisions

AGENCY: Department of the Army, DoD.

ACTION: Notice of Availability (NOA).

SUMMARY: The Department of the Army announces the availability of an FEIS for the implementation of the decision to station a new Infantry Brigade Combat Team (IBCT) and other combat support units at Fort Carson, Colorado, and the potential stationing of a Combat Aviation Brigade (CAB) at Fort Carson in the future.

DATES: The waiting period will end 30 days after the publication of an NOA in the Federal Register by the U.S. Environmental Protection Agency.

ADDRESSES: For specific questions regarding the FEIS, please contact: Fort Carson National Environmental Policy Act Coordinator, 1638 Elwell Street, Building 6236, Fort Carson, CO 80913-4000 or via e-mail at CARSDECAMNEPA@conus.army.mil.

FOR FURTHER INFORMATION CONTACT: Ms. Dee McNutt, Fort Carson Public Affairs Office, at (719) 526-1269, during normal business hours.

SUPPLEMENTARY INFORMATION: The Proposed Action and analysis in the FEIS includes constructing new facilities at Fort Carson to support an IBCT and other combat support units (approximately 3,900 additional Soldiers and their dependents) and the potential stationing of a CAB (approximately 2,800 Soldiers and their dependents), upgrading ranges at Fort Carson, and increased use of live-fire training ranges and maneuver areas at Fort Carson and the Pinon Canyon Maneuver Site (PCMS). Implementation of the Proposed Action is anticipated in 2009 and would begin following the signing of the Record of Decision (ROD). The Proposed Action does not include the expansion of PCMS or any construction at PCMS.

The GTA EIS is not directly related to the Fort Carson or Pinon Canyon Maneuver Site (PCMS) Transformation EISs published in 2007. Those EISs analyzed actions that were separate from and independent of the GTA program. Further, those EISs were completed before the GTA action had been proposed and evaluated. The GTA actions combined with the Transformation actions will, however, produce cumulative effects that are analyzed in this GTA EIS.

The stationing of additional BCTs and other force structure realignment actions across the Army was analyzed in the 2007 Final Programmatic Environmental Impact Statement for Army Growth and Force Structure Realignment. The ROD determined that Fort Carson would receive an additional IBCT and other combat support units contingent on site-specific NEPA analysis. This FEIS is that site-specific analysis of the environmental and socioeconomic impacts of alternatives for implementing the Army's previous stationing decision. The FEIS also analyzes the potential stationing of a CAB.

The FEIS analyzes the impacts of several alternatives for construction of the IBCT facilities and the No Action alternative. Under the No Action alternative, the stationing of a new IBCT and CAB at Fort Carson would not be implemented. The No Action alternative provides the baseline conditions for comparison to the Proposed Alternative. After reviewing the alternatives presented in the EIS, the Army has selected the Operational Training Readiness Center alternative for the siting of IBCT facilities as its preferred alternative.

Copies of the FEIS are available at local libraries surrounding Fort Carson and PCMS and may also be accessed at http://www.aec.army.mil. Comments from the public will be considered before any final decision is made.

Dated: January 26, 2009.
Addison D. Davis, IV,
Deputy Assistant Secretary of the Army (Environment, Safety and Occupational Health).

[FR Doc. E9-2379 Filed 2-4-09; 8:45 am]

BILLING CODE 3710-08-M